DEPARTMENT OF HOMELAND SECURITY

Federal Emergency Management Agency

44 CFR Part 65

[Docket ID FEMA-2011-0002]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below of the modified BFEs for each community listed. These modified BFEs have been published in newspapers of local circulation and ninety (90) days have elapsed since that publication. The Deputy Federal Insurance and Mitigation Administrator has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in those buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
Arizona:
Maricopa (FEMA Docket No.: B-1186) | City of Surprise, (10-09-3551P) | January 27, 2011; February 3, 2011; The Arizona Business Gazette | The Honorable Lyn Truitt, Mayor, City of Surprise, 16000 North Civic Center Plaza, Surprise, AZ 85734 | June 3, 2011 | 040053
Maricopa (FEMA Docket No.: B-1191) | Town of Cave Creek, (10-09-2786P) | February 17, 2011; February 24, 2011; The Arizona Business Gazette | The Honorable Vincent Francia, Mayor, Town of Cave Creek, 37622 Cave Creek Road, Cave Creek, AZ 85331 | June 24, 2011 | 040129
Maricopa (FEMA Docket No.: B-1186) | Unincorporated areas of Maricopa County, (10-09-3551P) | January 27, 2011; February 3, 2011; The Arizona Business Gazette | The Honorable Andrew Kunasek, Chairman, Maricopa County Board of Supervisors, 301 West Jefferson, 10th Floor, Phoenix, AZ 85003 | June 3, 2011 | 040037
California:
Humboldt (FEMA Docket No.: B-1027) | City of Eureka, (08-09-0189P, 08-09-0941P) | April 10, 2008; April 18, 2008; The Eureka Reporter | The Honorable Frank Jager, Mayor, City of Eureka, 531 K Street, Eureka, CA 95501 | April 21, 2008 | 060062
Ventura (FEMA Docket No.: B-1191) | City of Camarillo, (10-09-2501P) | February 4, 2011; February 11, 2011; The Ventura County Star | The Honorable Mike Morgan, Mayor, City of Camarillo, 601 Carmen Drive, Camarillo, CA 93010 | June 13, 2011 | 065020
Ventura (FEMA Docket No.: B-1191) | City of Moorpark, (10-09-2904P) | February 4, 2011; February 11, 2011; The Ventura County Star | The Honorable Janice S. Parvin, Mayor, City of Moorpark, 799 Moorpark Avenue, Moorpark, CA 93021 | June 13, 2011 | 060712
Ventura (FEMA Docket No.: B-1191) | Unincorporated areas of Ventura County, (10-09-2501P) | February 4, 2011; February 11, 2011; The Ventura County Star | The Honorable Linda Parks, Chair, Ventura County Board of Supervisors, 800 South Victoria Avenue, Ventura, CA 93009 | June 13, 2011 | 060413
Ventura (FEMA Docket No.: B-1191) | Unincorporated areas of Ventura County, (10-09-2904P) | February 4, 2011; February 11, 2011; The Ventura County Star | The Honorable Linda Parks, Chair, Ventura County Board of Supervisors, 800 South Victoria Avenue, Ventura, CA 93009 | June 13, 2011 | 060413
Colorado:
Adams (FEMA Docket No.: B-1186) | City of Commerce City, (10-08-0226P) | February 1, 2011; February 8, 2011; The Commerce City Sentinel, Express | The Honorable Paul Natale, Mayor, City of Commerce City, 7887 East 60th Avenue, Commerce City, CO 80022 | June 8, 2011 | 080006
Adams (FEMA Docket No.: B-1191) | City of Thornton, (10-08-0748P) | February 17, 2011; February 24, 2011; The Northglenn-Thornton, Sentinel | The Honorable Mack Goodman, Mayor Pro Tem, City of Thornton, 9500 Civic Center Drive, Thornton, CO 80229 | June 24, 2011 | 080007
Adams (FEMA Docket No.: B-1191) | Unincorporated areas of Adams County, (10-08-0748P) | February 17, 2011; February 24, 2011; The Northglenn-Thornton, Sentinel | The Honorable W. R. “Skip” Fischer Chairman, Adams County Board of Commissioners, 4430 South Adams County Parkway, Brighton, CO 80601 | June 24, 2011 | 080001
Douglas (FEMA Docket No.: B-1191) | Unincorporated areas of Douglas County, (11-08-0030P) | February 10, 2011; Feburary 17, 2011; The Douglas County News-, Press | The Honorable Jill Repella, Chair, Douglas County Board of Commissioners, 100 3rd Street, Castle Rock, CO 80104 | June 17, 2011 | 080049
Douglas (FEMA Docket No.: B-1195) | Unincorporated areas of Douglas County, (11-08-0287P) | March 10, 2011; March 17, 2011; The Douglas County News-, Press | The Honorable Jill Repella, Chair, Douglas County Board of Commissioners, 100 3rd Street, Castle Rock, CO 80104 | February 28, 2011 | 080049
Delaware: Sussex, (FEMA Docket No.: B-1157) | Unincorporated areas of Sussex County, (10-03-0270P) | June 16, 2010; June 23, 2010; The Sussex Countian | The Honorable Vance Phillips, Council President, Sussex County, P.O. Box 589, Georgetown, DE 19947 | October 21, 2010 | 100029
Florida:
Orange (FEMA Docket No.: B-1191) | City of Ocoee, (10-04-8380P) | February 22, 2011; March 1, 2011; The Orlando Sentinel | The Honorable S. Scott Vandergrift, Mayor, City of Ocoee, 150 North Lakeshore Drive, Ocoee, FL 34761 | February 14, 2011 | 120185
Orange (FEMA Docket No.: B-1195) | Unincorporated areas of Orange County, (10-04-0673P) | February 10, 2011; February 17, 2011; The Orlando Weekly | The Honorable Teresa Jacobs, Mayor, Orange County, 201 South Rosalind Avenue, 5th Floor, Orlando, FL 32801 | June 17, 2011 | 120179
Orange (FEMA Docket No.: B-1195) | Unincorporated areas of Orange County, (10-04-7471P) | February 10, 2011; February 17, 2011; The Orlando Weekly | The Honorable Teresa Jacobs, Mayor, Orange County, 201 South Rosalind Avenue, 5th Floor, Orlando, FL 32801 | June 17, 2011 | 120179
Hawaii: Maui, (FEMA Docket No.: B-1195) | Unincorporated areas of Maui County, (10-09-3595P) | March 4, 2011; March 11, 2011; The Maui News | The Honorable Alan M. Arakawa, Mayor, Maui County, 250 South High Street, Wailuku, HI 96793 | February 24, 2011 | 150003
New Mexico: Sandoval, (FEMA Docket No.: B-1124) | City of Rio Rancho, (10-06-0995P) | April 21, 2010; April 28, 2010; The Rio Rancho Observer | The Honorable Thomas E. Swisstack, Mayor, City of Rio Rancho, 3200 Civic Center Circle Northeast, Rio Rancho, NM 87144 | August 26, 2010 | 350146
North Carolina: Wake, (FEMA Docket No.: B-1191) | Town of Apex, (10-04-4743P) | January 28, 2011; February 4, 2011; The News & Observer | The Honorable Keith H. Weatherly, Mayor, Town of Apex, 73 Hunter Street, Apex, NC 27502 | June 6, 2011 | 370467
Oklahoma:
Tulsa (FEMA Docket No.: B-1113) | City of Broken Arrow, (09-06-3069P) | February 23, 2010; March 2, 2010; Tulsa Daily Commerce and, Legal News | The Honorable Mike Lester, Mayor, City of Broken Arrow, 220 South 1st Street, Broken Arrow, OK 74012 | March 18, 2010 | 400236
Tulsa (FEMA Docket No.: B-1162 | City of Tulsa, (10-06-2150P) | August 6, 2010; August 13, 2010; The Tulsa World | The Honorable Dewey Bartlett, Mayor, City of Tulsa, 175 East 2nd Street, Suite 690, Tulsa, OK 74103 | July 30, 2010 | 405381
Pennsylvania: York, (FEMA Docket No.: B-1116) | Township of Dover, (09-03-1919P) | March 5, 2010; March 12, 2010; The York Daily Record | Mr. Curtis Kann, Chairperson, Township of Dover, Board of Supervisors, 2480 West Canal Road, Dover, PA 17315 | February 26, 2010 | 420920
Tennessee:
Franklin (FEMA Docket No.: B-1195) | City of Decherd, (10-04-2240P) | March 4, 2011; March 11, 2011; The Herald-Chronicle | The Honorable Betty Don Henshaw, Mayor, City of Decherd, 1301 West Main Street, Decherd, TN 37324 | February 24, 2011 | 470054
Franklin (FEMA Docket No.: B-1195) | City of Winchester, (10-04-2240P) | March 4, 2011; March 11, 2011; The Herald-Chronicle | The Honorable Terry Harrell, Mayor, City of Winchester, 7 South High Street, Winchester, TN 37398 | February 24, 2011 | 470056
Sullivan (FEMA Docket No.: B-1191) | City of Kingsport, (10-04-7017P) | February 14, 2011; February 21, 2011; The Kingsport Times-News | The Honorable Dennis R. Phillips, Mayor, City of Kingsport, 225 West Center Street, Kingsport, TN 37660 | June 21, 2011 | 470184
Texas:
Bexar (FEMA Docket No.: B-1135) | City of San Antonio, (09-06-3107P) | April 23, 2010; April 30, 2010; The San Antonio Express-, News | The Honorable Julian Castro, Mayor, City of San Antonio, P.O. Box 839966, San Antonio, TX 78283 | April 26, 2010 | 480045
Brazoria (FEMA Docket No.: B-1162) | City of Manvel, (10-06-1185P) | August 9, 2010; August 16, 2010; The Alvin Sun | The Honorable Delores Martin, Mayor, City of Manvel, P.O. Box 187, Manvel, TX 77578 | August 26, 2010 | 480076
Brazoria (FEMA Docket No.: B-1162) | Unincorporated areas of Brazoria County, (10-06-1185P) | August 9, 2010; August 16, 2010; The Facts | The Honorable Joe King, Brazoria County Judge, 111 East Locust Street, Angleton, TX 77515 | August 26, 2010 | 485458
Collin (FEMA Docket No.: B-1116) | City of Allen, (09-06-3028P) | November 6, 2009; November 13, 2009; The McKinney Courier-, Gazette | The Honorable Stephen Terrell, Mayor, City of Allen, 305 Century Parkway, Allen, TX 75013 | October 28, 2009 | 480131
Collin (FEMA Docket No.: B-1116) | City of McKinney, (09-06-3028P) | November 6, 2009; November 13, 2009; The McKinney Courier-, Gazette | The Honorable Brian Loughmiller, Mayor, City of McKinney, 222 North Tennessee Street, P.O. Box 517, McKinney, TX 75069 | October 28, 2009 | 480135
Collin (FEMA Docket No.: B-1113) | City of McKinney, (10-06-0322P) | February 4, 2010; February 11, 2010; The McKinney Courier-, Gazette | The Honorable Brian Loughmiller, Mayor, City of McKinney, 222 North Tennessee Street, P.O. Box 517, McKinney, TX 75069 | June 11, 2010 | 480135
Collin (FEMA Docket No.: B-1162) | City of Wylie, (10-06-1838P) | August 25, 2010; September 1, 2010; The Wylie News | The Honorable Eric Hogue, Mayor, City of Wylie, 2000 State Highway 78 North, Wylie, TX 75098 | December 30, 2010 | 480759
Dallas (FEMA Docket No.: B-1113) | City of Lancaster, (09-06-3164P) | December 29, 2009; January 5, 2010; The Focus Daily News | The Honorable Marcus Knight, Mayor, City of Lancaster, P.O. Box 940, Lancaster, TX 75146 | May 5, 2010 | 480182
Denton FEMA Docket No.: B-1157) | City of Lewisville, (10-06-0364P) | June 9, 2010; June 16, 2010; The Lewisville Leader | The Honorable Dean Ueckert, Mayor, City of Lewisville, 151 West Church Street, Lewisville, TX 75029 | June 28, 2010 | 480195
Harris (FEMA Docket No.: B-1141) | City of Houston, (09-06-3048P) | May 25, 2010; June 1, 2010; The Houston Chronicle | The Honorable Annise D. Parker, Mayor, City of Houston, P.O. Box 1562, Houston, TX 77251 | September 29, 2010 | 480296
Harris (FEMA Docket No.: B-1162) | Unincorporated areas of Harris County, (10-06-0320P) | September 7, 2010; September 14, 2010; The Houston Chronicle | The Honorable Ed Emmett, Harris County Judge, 1001 Preston Street, Suite 911, Houston, TX 77002 | January 12, 2011 | 480287
Johnson (FEMA Docket No.: B-1162) | City of Mansfield, (10-06-0427P) | July 20, 2010; July 27, 2010; The Fort Worth Star-, Telegram | The Honorable David Cook, Mayor, City of Mansfield, 1200 East Broad Street, Mansfield, TX 76063 | November 24, 2010 | 480606
Johnson (FEMA Docket No.: B-1162) | Unincorporated areas of Johnson County, (10-06-0427P) | July 20, 2010; July 27, 2010; The Fort Worth Star-Telegram | The Honorable Roger Harmon, Johnson County Judge, 2 Main Street, Cleburne, TX 76033 | November 24, 2010 | 480879
Kerr (FEMA Docket No.: B-1124) | Unincorporated areas of Kerr County, (09-06-3314P) | April 20, 2010; April 27, 2010; The Kerrville Daily Times | The Honorable Pat Tinley, Kerr County Judge, 700 East Main Street, Kerrville, TX 78028 | August 25, 2010 | 480419
Tarrant (FEMA Docket No.: B-1162) | City of Fort Worth, (10-06-1675P) | July 13, 2010; July 20, 2010; The Fort Worth Star-Telegram | The Honorable Michael J. Moncrief, Mayor, City of Fort Worth, 1000 Throckmorton Street, Fort Worth, TX 76102 | November 17, 2010 | 480596
Tarrant (FEMA Docket No.: B-1162) | City of Watauga, (09-06-3519P) | June 8, 2010; June 15, 2010; The Fort Worth Star-Telegram | The Honorable Henry Jeffries, Mayor, City of Watauga, 7105 Whitley Road, Watauga, TX 76148 | October 13, 2010 | 480613
Travis (FEMA Docket No.: B-1116) | City of Austin, (09-06-3398P) | March 10, 2010; March 17, 2010; The Austin American-Statesman | The Honorable Lee Leffingwell, Mayor, City of Austin, P.O. Box 1088, Austin, TX 78767 | July 15, 2010 | 480624
Williamson (FEMA Docket No.: B-1162) | City of Cedar Park, (09-06-3455P) | September 9, 2010; September 16, 2010; The Hill Country News | The Honorable Bob Lemon, Mayor, City of Cedar Park, 600 North Bell Boulevard, Cedar Park, TX 78613 | January 14, 2011 | 481282
Williamson (FEMA Docket No.: B-1157) | City of Georgetown, (10-06-0373P) | July 7, 2010; July 14, 2010; The Williamson County Sun | The Honorable George Garver, Mayor, City of Georgetown, P.O. Box 409, Georgetown, TX 78627 | November 11, 2010 | 480668
Utah: Washington (FEMA Docket No.: B-1195) | City of Washington, (10-08-1023P) | March 11, 2011; March 18, 2011; The Spectrum | The Honorable Ken Neilson, Mayor, City of Washington, 111 North 100 East, Washington, UT 84780 | February 28, 2011 | 490182
Virginia: Frederick (FEMA Docket No.: B-1141) | City of Winchester, (10-03-0692P) | April 29, 2010; May 6, 2010; The Winchester Star | The Honorable Elizabeth Minor, Mayor, City of Winchester, 15 North Cameron Street, Winchester, VA 22601 | April 22, 2010 | 510173

(Catalog of Federal Domestic Assistance No. 97.022, “Flood Insurance.”)

Dated: August 5, 2011.
Sandra K. Knight,
Deputy Federal Insurance and Mitigation Administrator, Mitigation, Department of Homeland Security, Federal Emergency Management Agency.

[FR Doc. 2011-20963 Filed 8-16-11; 8:45 am]

BILLING CODE 9110-12-P